COMMISSION ON CIVIL RIGHTS

Sunshine Act Notice

AGENCY: United States Commission on Civil Rights.

ACTION: Notice of meeting.

DATE AND TIME: Wednesday, December 16, 2009; 11:30 a.m. EST.

PLACE: Via Teleconference, Public Dial In—1-800-597-7623, Conference ID # 45249677.

Meeting Agenda

This meeting is open to the public.

I. Approval of Agenda

II. State Advisory Committee Issues

• Pennsylvania

III. Program Planning

• Update on Status of Title IX Project

• Motion to Approve Institutions to be Included in Project

• Update on Status of 2010 Enforcement Report

• Multi-Ethnic Placement Act Briefing Report

• Consideration of Findings & Recommendations

• Motion to Approve MEPA Finding #9

• Motion to Approve MEPA Recommendation #3

• Motion to Approve MEPA Recommendation #8

• Consideration of Deadlines for Concurring or Dissenting Statements & Rebuttals

• Discussion of Timetable for Future Briefings

IV. Approval of December 4, 2009 Meeting Minutes

V. Staff Director's Report

VI. Adjourn

CONTACT PERSON FOR FURTHER INFORMATION: Lenore Ostrowsky, Acting Chief, Public Affairs Unit (202) 376-8591. TDD: (202) 376-8116.

Persons with a disability requiring special services, such as an interpreter for the hearing impaired, should contact Pamela Dunston at least seven days prior to the meeting at 202-376-8105. TDD: (202) 376-8116.

Dated: December 4, 2009.
Martin Dannenfelser,
Staff Director.

[FR Doc. E9-29382 Filed 12-7-09; 4:15 pm]

BILLING CODE 6335-01-P